Title 3—

The President

Proclamation 9765 of June 15, 2018

Father's Day, 2018

By the President of the United States of America

A Proclamation

On Father's Day, we pay special tribute to the men who devote themselves to supporting and caring for their loved ones. We take this occasion to show our gratitude to our fathers, to thank them for inspiring us to be our best, and to appreciate the influence they have in shaping our character and guiding our futures.

Fathers across our country serve as role models for their children and families. Through their examples, they display the fundamental American values of hard work and dedication, which are so important to fulfilling our potential and achieving the American Dream. In each stage of our development, their unwavering support inspires us to take on the next big challenge and to pursue ambitious goals we might otherwise have thought beyond our reach. Their engagement in our communities, from the soccer field to Main Street to the town hall, enriches American life and encourages others to get involved.

As a Nation, we reaffirm our commitment to promoting fatherhood in our neighborhoods and communities. All fathers must know and harness their power to shape the future of their children. More and more, scientific studies show that fathers who actively invest in their children improve their lives emotionally, physically, academically, and economically. My Administration supports the continuation of grant funding to States and community organizations that educate men on the significance of active fatherhood and assist them with entering or staying in the workforce so they can contribu te to the emotional and financial well-being of their children and families.

Today, and every day, we honor our fathers who serve their families with humble and giving hearts. Whether we became their children through birth, adoption, or foster care, the incredible fathers in our lives generously share with us the powerful gifts of love and care through their presence and dedication. We express our love and gratitude to our fathers for the countless ways they have improved our lives and acknowledge the tremendous importance of active fatherhood to our families, communities, and country.

NOW, THERFORE, I, DONALD J. TRUMP, President of the United States of America, in accordance with a joint resolution of the Congress approved April 24, 1972, as amended (36 U.S.C. 109), do hereby proclaim June 17, 2018, as Father's Day. I call on United States Government officials to display the flag of the United States on all Government buildings on Father's Day and invite State and local governments and the people of the United States to observe Father's Day with appropriate ceremonies.

IN WITNESS WHEREOF, I have hereunto set my hand this fifteenth day of June, in the year of our Lord two thousand eighteen, and of the Independence of the United States of America the two hundred and forty-second.

[FR Doc. 2018-13514

Filed 6-20-18; 11:15 am]

Billing code 3295-F8-P